DEPARTMENT OF COMMERCE

National Oceanic and Atmospheric Administration

Draft Management Plan and Environmental Assessment for the Gerry E. Studds Stellwagen Bank National Marine Sanctuary: Notice of Public Comment Period Extension

AGENCY: Office of National Marine Sanctuaries (ONMS), National Ocean Service (NOS), National Oceanic and Atmospheric Administration (NOAA), Department of Commerce (DOC).

ACTION: Notice of public comment period extension.

SUMMARY: A 90-day public comment period was announced in the May 6, 2008 Federal Register, Volume 73, No. 88, to end on August 4, 2008. To accommodate receipt of additional comments NOAA's Office of National Marine Sanctuaries has extended the period for public comments on the draft management plan and draft environmental assessment for the Gerry E. Studds Stellwagen Bank National Marine Sanctuary to October 3, 2008.

DATES: Comments on the draft management plan and draft environmental assessment will now be considered if received on or before October 3, 2008.

ADDRESSES: To obtain a copy: For a copy of the draft management plan and draft environmental assessment, contact the Management Plan Review Coordinator, Stellwagen Bank National Marine Sanctuary, 175 Edward Foster Rd., Scituate, MA 02066. Copies can also be downloaded from the SBNMS Web site at http://stellwagen.noaa.gov.

To submit comments: Comments on the draft management plan and draft environmental assessment may be submitted by one of the following methods:

1. In writing to the SBNMS Management Plan Review Coordinator (see to obtain a copy section above);

2. By e-mail to sbplan@noaa.gov; or

3. By facsimile to (781) 545-8036.

FOR FURTHER INFORMATION CONTACT: Benjamin Cowie-Haskell at (781) 545-8026 or via e-mail at sbplan@noaa.gov.

Dated: July 18, 2008.
Daniel J. Basta,
Office of National Marine Sanctuaries.

[FR Doc. E8-17193 Filed 7-28-08; 8:45 am]

BILLING CODE 3510-22-M